DEPARTMENT OF THE INTERIOR

National Park Service

[NPS-WASO-NRNHL-DTS#-37494; PPWOCRADI0, PCU00RP14.R50000]

National Register of Historic Places; Notification of Pending Nominations and Related Actions

AGENCY: National Park Service, Interior.

ACTION: Notice.

SUMMARY: The National Park Service is soliciting electronic comments on the significance of properties nominated before February 17, 2024, for listing or related actions in the National Register of Historic Places.

DATES: Comments should be submitted electronically by March 15, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 17, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

DELAWARE

New Castle County

Scott A.M.E. Zion Church, 629 E 7th Street, Wilmington, SG100010113

DISTRICT OF COLUMBIA

District of Columbia

University Club of Washington, DC, 1135 Sixteenth Street NW, Washington, SG100010128

HAWAII

Maui County

The Bookkeeper's House, Pioneer Mill-Lahaina Ice Co., 271 Front St., Lahaina, SG100010125

OHIO

Paulding County

Paulding Downtown Historic District, Centered on the Paulding County Courthouse and roughly bounded by Harrison, Water, Caroline and Cherry Streets, Paulding, SG100010114

OREGON

Lake County

Alger Theatre, 24 South F Street, Lakeview, SG100010118

TENNESSEE

Haywood County

Woodlawn Baptist Church, Tibbs Road at TN-19, Nutbush, SG100010115

TEXAS

Potter County

Green Acres Apartments, 3118 SW 15th Ave., Amarillo, SG100010122

WISCONSIN

Jefferson County

Loewe-Weis-Wilson Farm, 504 East Main Street, Village of Palmyra, SG100010116

A request for removal has been made for the following resource(s):

LOUISIANA

Tangipahoa Parish

Tangipahoa School, Jct. of Jackson and Tarpley Sts., Tangipahoa, OT03000705

Additional documentation has been received for the following resource(s):

MONTANA

Silver Bow County

Butte-Anaconda Historic District (Additional Documentation), 100 East Broadway, Butte, AD66000438

NEW JERSEY

Hudson County

First Reformed Dutch Church of Bergen Neck (Additional Documentation), Avenue C and 33rd St., Bayonne, AD82003274

SOUTH DAKOTA

Charles Mix County

Geddes Historic District (Additional Documentation), Off SD 50, Geddes, AD73001737

VERMONT

Bennington County

Arlington Village Historic District (Additional Documentation), Roughly Main St., School St., E Arlington Rd., and Battenkill Dr., Arlington, AD89001936

Nomination(s) submitted by Federal Preservation Officers:

The State Historic Preservation Officer reviewed the following nomination(s) and responded to the Federal Preservation Officer within 45 days of receipt of the nomination(s) and supports listing the properties in the National Register of Historic Places.

HAWAII

Honolulu County

Barbers Point Light, (Light Stations of the United States MPS), Southwest end of Olai Street, 0.1 mile west of Barbers Point Beach Park, Kapolei vicinity, MP100010117

Authority: Section 60.13 of 36 CFR part 60.

Sherry A. Frear,
Chief, National Register of Historic Places/National Historic Landmarks Program.

[FR Doc. 2024-04209 Filed 2-28-24; 8:45 am]

BILLING CODE 4312-52-P